DEPARTMENT OF COMMERCE

International Trade Administration

[A-570-918]

Notice of Extension of the Deadline for Determining the Adequacy of the Antidumping Duty Petition: Steel Wire Garment Hangers from the People's Republic of China

AGENCY: Import Administration, International Trade Administration, Department of Commerce.

EFFECTIVE DATE: August 21, 2007.

FOR FURTHER INFORMATION CONTACT: Irene Gorelik or Julia Hancock, AD/CVD Operations, Office 9, Import Administration, International Trade Administration, U.S. Department of Commerce, 14th Street and Constitution Avenue, NW, Washington, DC 20230; telephone: (202) 482-6905 or (202) 482-1394, respectively.

SUPPLEMENTARY INFORMATION:

INITIATION OF INVESTIGATION

The Petition

On July 31, 2007, the Department of Commerce (“the Department”) received an antidumping duty petition (“petition”) filed by M&B Metal Products Company, Inc. (“Petitioner”) on behalf of the domestic industry producing steel wire garment hangers.

Determination of Industry Support for the Petition

Section 732(b)(1) of the Tariff Act of 1930, as amended (“Act”), requires that a petition be filed by or on behalf of the domestic industry. Section 732(c)(4)(A) of the Act provides that the Department's industry support determination be based on whether a minimum percentage of the relevant industry supports the petition. A petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) if there is a large number of producers, determine industry support using a statistically valid sampling method to poll the industry.

Extension of Time

Section 732(c)(1)(A)(ii) of the Act provides that within 20 days of the filing of an antidumping duty petition, the Department will determine, inter alia, whether the petition has been filed by or on behalf of the U.S. industry producing the domestic like product. Section 732(c)(1)(B) of the Act provides that the deadline for the initiation determination, in exceptional circumstances, may be extended by 20 days in any case in which the Department must “poll or otherwise determine support for the petition by the industry.” Because it is not clear from the petition whether the industry support criteria have been met, the Department has determined to extend the time for initiating an investigation in order to poll the domestic industry. The Department will issue polling questionnaires to all known domestic producers of steel wire garment hangers identified in the petition. The questionnaires will be on file in the Central Records Unit in room B-099 of the main Department of Commerce building. The Department will request that each company complete the polling questionnaire and fax their responses to the Department.

The Department will need additional time to analyze the domestic producers' responses to this request for information. Therefore, it is necessary to extend the deadline in order to determine the adequacy of the petition for a period not to exceed 40 days from the filing of the petition. As a result, the initiation determination will now be due no later than September 10, 2007.¹

¹ Twenty days from the original deadline is September 9, 2007. However, Department practice dictates that where a deadline falls on a weekend, the appropriate deadline is the next business day. See Notice of Clarification: Application of “Next Business Day” Rule for Administrative Determination Deadlines Pursuant to the Act, 70 FR 24533 (May 10, 2005).

International Trade Commission Notification

The Department will contact the International Trade Commission (“ITC”) and will make this extension notice available to the ITC.

Dated: August 15, 2007.
Gary Taverman,
Acting Deputy Assistant Secretary for Import Administration.

[FR Doc. E7-16448 Filed 8-20-07; 8:45 am]

BILLING CODE 3510-DS-S